DEPARTMENT OF THE INTERIOR

Bureau of Land Management

[LLCA930000.L58740000.EU0000. LXSS039B0000; CACA 51350]

Notice of Realty Action: Direct Sale of Public Lands in Santa Barbara County, CA

AGENCY: Bureau of Land Management, Interior.

ACTION: Notice of realty action.

SUMMARY: The Bureau of Land Management (BLM), Bakersfield Field Office, proposes to sell 7 contiguous parcels of public land consisting of approximately 391 acres in Santa Barbara County, California. Each parcel would be sold to the respective adjacent land owner for the appraised fair market value. The adjacent landowners are Acquistapace Ranches LLC, West Bay LLC, Leo Moore Trust, Tepusquet Ranch LLC, Lenore Penny Revocable Trust, Lone Pine LLC, and the Charles Minetti Trust. The total appraised value of all 7 parcels is $104,000. The sale will be subject to the applicable provisions of Sections 203 and 209 of the Federal Land Policy and Management Act of 1976 (FLPMA), 43 U.S.C. 1713 and 1719, respectively, and the BLM land sale and mineral conveyance regulations at 43 CFR 2710 and 2720.

DATES: Comments regarding the proposed sale must be received by the BLM on or before December 17, 2010.

ADDRESSES: Written comments concerning the proposed sale should be sent to the Field Manager, Bureau of Land Management, Bakersfield Field Office, 3801 Pegasus Drive, Bakersfield, California 93308.

FOR FURTHER INFORMATION CONTACT: Diane Simpson, Realty Specialist, BLM Bakersfield Field Office, (661) 391-6000.

SUPPLEMENTARY INFORMATION: The following 7 parcels of public land are proposed for direct sale to the adjacent land owners in accordance with Sections 203 and 209 of FLPMA, as amended (43 U.S.C. 1713 and 1719), at not less than the appraised fair market value:

San Bernardino Meridian

Parcel No. 1

T. 10 N., R. 32 W.,

Sec. 29, lots 22 and 23;

Sec. 30, lot 2;

Sec. 32, lot 3;

Sec. 33, lot 10.

The area described contains 31.68 acres in Santa Barbara County.

Proposed for sale to West Bay LLC, for the appraised fair market value of $8,000.00.

Parcel No. 2

T. 10 N., R. 32 W.,

Sec. 29, lots 20 and 21.

The area described contains 4.59 acres in Santa Barbara County.

Proposed for sale to Leo Moore Trust, for the appraised fair market value $1,150.00.

Parcel No. 3

T. 10 N., R. 32 W.,

Sec. 28, lot 13;

Sec. 29, lots 15 and 19;

Sec. 32, lot 2;

Sec. 33, lot 9;

Sec. 34, lot 8.

The area described contains 94.67 acres in Santa Barbara County.

Proposed for sale to Acquistapace Ranches LLC, for the appraised fair market value of $32,000.00.

Parcel No. 4

T. 10 N., R. 32 W.,

Sec. 33, lot 11.

The area described contains 18.05 acres in Santa Barbara County.

Proposed for sale to Tepusquet Ranch, for the appraised fair market value of $5,000.00.

Parcel No. 5

T. 10 N., R. 32 W.,

Sec. 33, lot 12;

Sec. 34, lot 9.

The area described contains 27.81 acres in Santa Barbara County.

Proposed for sale to Lenore Penny Revocable Trust, for the appraised fair market value of $7,500.00.

Parcel No. 6

T. 9 N., R. 32 W.,

Sec. 3, lot 1.

The area described contains 4.34 acres in Santa Barbara County.

Proposed to be sold to Lone Pine LLC, for the fair market value of $850.00.

Parcel No. 7

T. 9 N., R. 32 W.,

Sec. 1, lots 6, 7, and 8;

Sec. 2, lots 5, 6, 7, and 8.

The area described contains 198.05 acres in Santa Barbara County.

Proposed to be sold to Charles Minetti LLC, for the fair market value of $49,500.00.

The public lands are identified as suitable for disposal in the BLM's 1996 Caliente Resource Management Plan, as amended, and are not needed for any other Federal purpose.

The public lands proposed for sale consist of a long narrow strip that was not conveyed out of Federal ownership with other lands in the area due to an error in the original public land survey. The lands are difficult and uneconomic to manage as part of the public lands because they lack legal access, are isolated from other public lands, and due to the shape of the parcels have no independent utility. The BLM is proposing a direct sale to the adjacent landowners who control access to the public lands. A competitive sale is not considered appropriate because the lands lack legal access and generally only have value or utility to the adjacent landowners. The BLM has concluded the public interest would be best served by a direct sale. With the exception of oil and gas, the lands identified for sale are considered to have no known mineral value and the proposed sale would include the conveyance of both the surface interests and remaining mineral interests of the United States.

On November 2, 2010, the above described lands (Parcels No. 1 through 7) will be segregated from appropriation under the public land laws, including the mining laws, except the sale provisions of FLPMA. Until completion of the sale or termination of the segregation, the BLM will not accept land use applications affecting the identified public lands, except application for the amendment of previously filed right-of-way applications or existing authorizations to increase the term of the grants in accordance with 43 CFR 2802.15 and 2886.15. The segregation terminates upon issuance of a patent, publication in the Federal Register of a termination of the segregation, or November 2, 2012, whichever occurs first, unless extended by the BLM State Director in accordance with 43 CFR 2711.1-2(d) prior to the termination date. The lands will not be sold until at least 60 days after the date of publication of this notice in the Federal Register. The adjacent landowners would each be required to pay a $50 nonrefundable filing fee for conveyance of the mineral interests. Any patent issued will contain the following numbered reservations, covenants, terms and conditions:

1. All parcels will be conveyed with a reservation of a right-of-way to the United States for ditches and canals constructed by authority of the United States under the Act of August 30, 1890 (43 U.S.C. 945), and a reservation of all oil and gas to the United States together with the right to prospect for, mine, and remove such oil and gas resources under applicable law and any regulations as the Secretary of the Interior may prescribe, along with all necessary access and exit rights;

2. A condition that the conveyance be subject to all valid existing rights of record;

3. An appropriate indemnification clause protecting the United States from claims arising at the patentee's use, occupancy, or occupation of the patented lands;

4. Additional terms and conditions that the authorized officer deems appropriate.

Detailed information concerning the proposed land sale, including the appraisal, planning and environmental documents, and a mineral report, are available for review at the location identified in ADDRESSES above.

Public comments regarding the proposed sale may be submitted in writing to the attention of the BLM Bakersfield—Manager (see ADDRESSES above) on or before December 17, 2010. Comments received in electronic form, such as e-mail or facsimile, will not be considered. Any adverse comments regarding the proposed sale will be reviewed by the BLM State Director or other authorized official of the Department, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Karla Norris,
Assistant Deputy State Director for Natural Resources.

Authority: 43 CFR 2711.1-2(a) and (c).

[FR Doc. 2010-27675 Filed 11-1-10; 8:45 am]

BILLING CODE 4310-40-P